DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains and associated funerary objects in the possession of the Field Museum of Natural History, Chicago, IL. The human remains and associated funerary objects were removed from various locations on the Hopi Indian Reservation, Coconino County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Field Museum of Natural History professional staff in consultation with representatives of the Hopi Tribe of Arizona.

In 1900, human remains representing a minimum of 71 individuals were removed from Awatobi, Burned Corn House, Chukuli, Mishongovi, Old Mishongovi, Payapki, Kishuba, Shongopovi, and Sityatki, on the Hopi Indian Reservation, Coconino County, AZ, by Charles L. Owen for the Field Museum of Natural History (Field Museum accession number 709). No known individuals were identified. The 51 associated funerary objects are 5 ceramic jars, 26 bowls, 5 pots, 5 ladles, 2 vases, 2 mugs, 2 beads, 1 figure, 1 chert flake, 1 lot of paint, and 1 piki stone.

In 1901, human remains representing a minimum of 180 individuals were removed from Old Walpi on the Hopi Indian Reservation, Coconino County, AZ, by Charles L. Owen for the Field Museum of Natural History (Field Museum accession numbers 769, 780). No known individuals were identified. The 100 associated funerary objects are 30 ceramic jars, 26 bowls, 16 pots, 5 bahos, 4 pitchers, 6 ladles, 3 vases, 2 mugs, 1 lot of stone images, 1 lot of stone slabs, 4 faunal remains, 1 bead, and 1 seed.

The human remains have been identified as Native American based on the burial context and the specific cultural and geographic attribution in Field Museum of Natural History records. All of the remains were identified as “Hopi” from archeological sites on the Hopi Indian Reservation, AZ. “Hopi” descendants from the Hopi Indian Reservation are represented by the present-day Hopi Tribe of Arizona.

Officials of the Field Museum of Natural History have determined that, pursuant to 25 U.S.C. 3001(9), the human remains described above represent the physical remains of 251 individuals of Native American ancestry. Officials of the Field Museum of Natural History also have determined that, pursuant to 25 U.S.C. 3001(3)(A), the 151 objects described above are reasonably believed to have been placed with or near individual human remains at the time of death or later as part of the death rite or ceremony. Officials of the Field Museum of Natural History have determined that, pursuant to 25 U.S.C. 3001(2), there is a relationship of shared group identity that can be reasonably traced between the Native American human remains and associated funerary objects and the Hopi Tribe of Arizona.

Representatives of any other Indian tribe that believes itself to be culturally affiliated with the human remains and associated funerary objects should contact Helen Robbins, Repatriation Director, Field Museum of Natural History, 1400 South Lake Shore Dr., Chicago, IL 60605-2496, telephone (312) 665-7317, before September 2, 2010. Repatriation of the human remains and associated funerary objects to the Hopi Tribe of Arizona may proceed after that date if no additional claimants come forward.

The Field Museum of Natural History is responsible for notifying the Hopi Tribe of Arizona that this notice has been published.

Dated: July 26, 2010
Sherry Hutt,
Manager, National NAGPRA Program.

[FR Doc. 2010-18990 Filed 8-2-10; 8:45 am]

BILLING CODE 4312-50-S